FEDERAL COMMUNICATIONS COMMISSION

Notice of Public Information Collection(s) Being Reviewed by the Federal Communications Commission, Comments Requested

November 1, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 8, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0806.

Title: Universal Service—Schools and Libraries Universal Service Program.

Form No.: FCC Forms 470 and 471.

Type of Review: Extension.

Respondents: Business or Other for Profit.

Number of Respondents: 40,000.

Estimated Time Per Response: 7.3 hrs (avg.).

Total Annual Burden: 660,000 hours.

Estimated Annual Reporting and Recordkeeping Cost Burden: $0.

Frequency of Response: On occasion; Recordkeeping; Third Party Disclosure.

Needs and Uses: The Commission adopted rules providing support for all telecommunications services, internet access, and internal connections for all eligible schools and libraries. To participate in the program, schools and libraries must submit a description of the services desired to the Administrator via FCC Form 470. FCC Form 471 is submitted by schools and libraries that have ordered telecommunications services, internet access, and internal connections. The information is used to determine eligibility.

OMB Control No.: 3060-0819.

Title: Lifeline Assistance (Lifeline) Connection Assistance (Link Up) Reporting Worksheet and Instructions (47 CFR 54.400-54.417).

Form No.: FCC Form 497.

Type of Review: Extension.

Respondents: Business or Other for Profit.

Number of Respondents: 18,000.

Estimated Time Per Response: 3 hrs (avg.).

Total Annual Burden: 54,000 hours.

Estimated Annual Reporting and Recordkeeping Cost Burden: $0.

Frequency of Response: On occasion; Monthly; Quarterly.

Needs and Uses: Eligible telecommunications carriers are permitted to receive universal service support reimbursement for offering certain services to qualifying low-income customers. The telecommunications carriers must file FCC Form 497 to solicit reimbursement. Collection of the data is necessary for the administrator to accurately provide settlements for the low-income programs according to Commission rules. FCC Form 497 has been revised to make it consistent with the requirements contained in CC Docket No. 96-45, FCC 00-208. In CC Docket No. 96-45, the Commission adopted measures to promote telecommunications subscribership within American Indian and Alaska Native tribal communities and mandated enhancements to the existing Lifeline and Link Up programs.

OMB Control No.: 3060-0798.

Title: FCC Application for Wireless Telecommunications Bureau Radio Service Authorization.

Form No.: FCC 601.

Type of Review: Revision of an existing collection.

Respondents: Individuals or households; Business or other for-profit; Not-for-profit institutions; State, Local or Tribal Government.

Number of Respondents: 240,320.

Estimated Time Per Response: 1.25 hours.

Total Annual Burden: 210,280 hours.

Estimated Annual Reporting and Recordkeeping Cost Burden: $48,364,000, which includes application filing fees.

Needs and Uses: FCC 601 is used as the general application (long form) for market based licensing and site-by-site licensing in the Wireless Telecommunications Radio Services. The purpose of this revision is to make the necessary form changes for the Tribal Lands bidding credits, to make the necessary adjustments to the instructions for implementation of Coast and Ground Radio Services to ULS, to add a general certification statement for RF certification as adopted in Report and Order, FCC-96-326, and to further clarify various instructions for the applicants. We sought emergency clearance on these changes in order to allow form changes to be in place for the auctions scheduled for the beginning of November and are now seeking a 3 year clearance. The information is used by the Commission to determine whether the applicant is legally, technically and financially qualified to be licensed.

Federal Communications Commission.
Magalie Roman Salas,
Secretary.

[FR Doc. 00-28684 Filed 11-07-00; 8:45 am]

BILLING CODE 6712-01-P